DEPARTMENT OF ENERGY

Federal Energy Regulatory Commission

[Docket No. RP02-533-000]

Kinder Morgan Interstate Gas Transmission, LLC; Notice of Request for Waiver

November 1, 2002.

Take notice that on September 4, 2002, Kinder Morgan Interstate Gas Transmission LLC (KMIGT) tendered for filing a request for a one-time waiver of certain notice and timing requirements of Section 29.a of its FERC Gas Tariff, Fourth Revised Volume No. I-B, relating to the assessment of an Operational Flow Order (OFO) penalty to Kansas Gas Service, a Division of OneOk, Inc.

KMIGT states that copies of the filing have been served upon transportation and storage shippers and affected state regulatory bodies.

Any person desiring to be heard or to protest said filing should file a motion to intervene or a protest with the Federal Energy Regulatory Commission, 888 First Street, NE., Washington, DC 20426, in accordance with Sections 385.214 or 385.211 of the Commission's Rules and Regulations. All such motions or protests must be filed on or before November 8, 2002. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-28446 Filed 11-7-02; 8:45 am]

BILLING CODE 6717-01-P